DEPARTMENT OF THE INTERIOR

National Park Service

[NPS-WASO-CRSP-0411-7276; 2275-UYY]

Information Collection Request Sent to the Office of Management and Budget (OMB) for Approval; Archeological Permit Applications and Reports

AGENCY: National Park Service, Interior.

ACTION: Notice; request for comments.

SUMMARY: We (National Park Service) have sent an Information Collection Request (ICR) to OMB for review and approval. We summarize the ICR below and describe the nature of the collection and the estimated burden and cost. This ICR is scheduled to expire on April 30, 2011. We may not conduct or sponsor and a person is not required to respond to a collection of information unless it displays a currently valid OMB control number. However, under OMB regulations, we may continue to conduct or sponsor this information collection while it is pending at OMB.

DATES: You must submit comments on or before May 31, 2011.

ADDRESSES: Send your comments and suggestions on this information collection to the Desk Officer for the Department of the Interior at OMB-OIRA at (202) 395-5806 (fax) or OIRA_DOCKET@OMB.eop.gov (e-mail). Please provide a copy of your comments to Rob Gordon, Information Collection Clearance Officer, National Park Service, MS 2605, 1201 Eye Street NW., Washington, DC 20005 (mail), or robert_gordon@nps.gov (e-mail). Please include 1024-0037 in the subject line of your comments.

FOR FURTHER INFORMATION CONTACT: To request additional information about this ICR, contact Rob Gordon by mail or e-mail (see ADDRESSES) or by telephone at (202) 354-1936. You may review the ICR online at http://www.reginfo.gov. Follow the instructions to review Department of the Interior collections under review by OMB.

SUPPLEMENTARY INFORMATION:

OMB Control Number: 1024-0037.

Title: Archeological Permit Applications and Reports, 43 CFR parts 3 and 7.

Service Form Number: DI Form 1926.

Type of Request: Extension of a currently approved collection.

Description of Respondents: Individuals, businesses, organizations, and State, local, and tribal governments.

Respondent's Obligation: Required to obtain or retain a benefit.

Frequency of Collection: On occasion.

Estimated Number of Respondents: 736.

Activity | Number of responses | Completion time per response | Total annual burden hours
Applications | 736 | 2.5 hours | 1,840
Reports | 736 | .5 hour | 368
Total | 1,472 |  | 2,208

Abstract: Section 4 of the Archaeological Resources Protection Act (ARPA) of 1979 (16 U.S.C. 470cc) and section 3 of the Antiquities Act (AA) of 1906 (16 U.S.C. 432) authorize any individual or institution to apply to Federal land managing agencies to scientifically excavate or remove archeological resources from public or Indian lands. Permits for archeological investigations ordinarily are requested: (1) For conducting scientific research; (2) in conjunction with statutorily required environmental clearance activities prior to commencing a Federal undertaking; or (3) issuing a Federal license or permit for third party activities such as energy development on public or Indian lands. The implementing regulations (43 CFR part 7 for ARPA; 43 CFR part 3 for the AA) contain requirements for applications and reports.

We use DI Form 1926 (Application for Permit for Archeological Investigations) to collect:

• Name and contact information for applicant, principal investigator, field investigator, and permit administrator.

• A description of the purpose, nature, and extent of the work proposed.

• Evidence of the ability to carry out the proposed scope of work.

• Organizational history in completing the kind of work proposed.

• Curriculum vitae for principal investigator(s) and project director(s).

• Written consent by State or tribal authorities to undertake the activity on State or tribal lands.

• Curation authorization.

• Detailed schedule of all project activities, including completion of reports.

Each permittee must complete a report at the end of the project. The report must be consistent with information in field notes, photographs, and other materials.

Comments: On November 26, 2010, we published in the Federal Register (75 FR 72835) a notice of our intent to request that OMB renew approval for this information collection. In that notice, we solicited comments for 60 days, ending on January 25, 2011. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: April 26, 2011.
Rob Gordon,
Information Collection Clearance Officer, National Park Service.

[FR Doc. 2011-10459 Filed 4-28-11; 8:45 am]

BILLING CODE 4312-52-P